DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arizona:
Gila (FEMA Docket No.: B-2476). | City of Globe (23-09-1282P). | The Honorable Al Gameros, Mayor, City of Globe, 150 North Pine Street, Globe, AZ 85501. | City Hall, 150 North Pine Street, Globe, AZ 85501. | Dec. 12, 2024 | 040029
Gila (FEMA Docket No.: B-2476). | Unincorporated areas of Gila County (23-09-1282P). | Steve Christensen, Chair, Gila County, Board of Supervisors, 1400 East Ash Street, Globe, AZ 85501. | Gila County, Assessor's Office, 1400 East Ash Street, Globe, AZ 85501. | Dec. 12, 2024 | 040028
Maricopa (FEMA Docket No.: B-2476). | City of Buckeye (24-09-0106P). | The Honorable Eric Orsborn, Mayor, City of Buckeye, 530 East Monroe Avenue, Buckeye, AZ 85326. | Engineering Department, 530 East Monroe Avenue, Buckeye, AZ 85326. | Nov. 22, 2024 | 040039
Maricopa (FEMA Docket No.: B-2474). | City of Goodyear (23-09-0729P). | The Honorable Joe Pizzillo, Mayor, City of Goodyear, 1900 North Civic Square, Goodyear, AZ 85395. | Engineering and Development Services, 14455 West Van Buren Street, Suite D101, Goodyear, AZ 85338. | Nov. 29, 2024 | 040046
Maricopa (FEMA Docket No.: B-2474). | City of Peoria (23-09-1280P). | The Honorable Jason Beck, Mayor, City of Peoria, 8401 West Monroe Street, Peoria, AZ 85345. | City Hall, 8401 West Monroe Street, Peoria, AZ 85345. | Nov. 29, 2024 | 040050
Maricopa (FEMA Docket No.: B-2476). | City of Scottsdale (23-09-1134P). | The Honorable David D. Ortega, Mayor, City of Scottsdale, 3939 North Drinkwater Boulevard, Scottsdale, AZ 85251. | Planning Records, 7447 East Indian School Road, Suite 100, Scottsdale, AZ 85251. | Nov. 22, 2024 | 045012
Maricopa (FEMA Docket No.: B-2476). | City of Scottsdale (23-09-1358P). | The Honorable David D. Ortega, Mayor, City of Scottsdale, 3939 North Drinkwater Boulevard, Scottsdale, AZ 85251. | Planning Records, 7447 East Indian School Road, Suite 100, Scottsdale, AZ 85251. | Nov. 22, 2024 | 045012
Maricopa (FEMA Docket No.: B-2474). | City of Surprise (24-09-0009P). | The Honorable, Skip Hall, Mayor, City of Surprise, 16000 North Civic Center Plaza, Surprise, AZ 85374. | Public Works Department, Engineering Department Services, 16000 North Civic Center Plaza, Surprise, AZ 85374. | Dec. 6, 2024 | 040053
Maricopa (FEMA Docket No.: B-2474). | Unincorporated areas of Maricopa County (22-09-1095P). | Jack Sellers, Chair, Maricopa County Board of Supervisors, 301 West Jefferson Street, 10th Floor, Phoenix, AZ 85003. | Maricopa County Flood Control District, 2801 West Durango Street, Phoenix, AZ 85009. | Nov. 29, 2024 | 040037
Maricopa (FEMA Docket No.: B-2474). | Unincorporated areas of Maricopa County (23-09-1280P). | Jack Sellers, Chair, Maricopa County Board of Supervisors, 301 West Jefferson Street, 10th Floor, Phoenix, AZ 85003. | Maricopa County Flood Control District, 2801 West Durango Street, Phoenix, AZ 85009. | Nov. 29, 2024 | 040037
Maricopa (FEMA Docket No.: B-2474). | Unincorporated areas of Maricopa County (24-09-0009P). | Jack Sellers, Chair, Maricopa County Board of Supervisors, 301 West Jefferson Street, 10th Floor, Phoenix, AZ 85003. | Maricopa County Flood Control District, 2801 West Durango Street, Phoenix, AZ 85009. | Dec. 6, 2024 | 040037
Maricopa (FEMA Docket No.: B-2476). | Unincorporated areas of Maricopa County (24-09-0106P). | Jack Sellers, Chair, Maricopa County Board of Supervisors, 301 West Jefferson Street, 10th Floor, Phoenix, AZ 85003. | Maricopa County Flood Control District, 2801 West Durango Street, Phoenix, AZ 85009. | Nov. 22, 2024 | 040037
Mohave (FEMA Docket No.: B-2476). | City of Bullhead City (24-09-0373P). | The Honorable Steve D'Amico, Mayor, City of Bullhead City, 2355 Trane Road, Bullhead City, AZ 86442. | Public Works Department, 2355 Trane Road, Bullhead City, AZ 86442. | Nov. 25, 2024 | 040125
Yavapai (FEMA Docket No.: B-2474). | City of Cottonwood (22-09-0848P). | The Honorable Tim Elinski, Mayor, City of Cottonwood, 827 North Main Street, Cottonwood, AZ 86326. | Public Works Department, 1490 West Mingus Avenue, Cottonwood, AZ 86326. | Nov. 29, 2024 | 040096
Yavapai (FEMA Docket No.: B-2474). | Town of Clarkdale (22-09-0848P). | The Honorable Robyn Prud'Homme-Bauer, Mayor, Town of Clarkdale, 39 North 9th Street, Clarkdale, AZ 86324. | Public Works Department, 890 Main Street, Clarkdale, AZ 86324. | Nov. 29, 2024 | 040095
Yavapai (FEMA Docket No.: B-2474). | Unincorporated areas of Yavapai County (22-09-0848P). | Craig L. Brown, Chair, Yavapai County, Board of Supervisors, 10 South 6th Street, Cottonwood, AZ 86326. | Yavapai County Flood Control District, 1120 Commerce Drive, Prescott, AZ 86305. | Nov. 29, 2024 | 040093
California:
Alameda (FEMA Docket No.: B-2476). | City of Alameda (23-09-1261P). | The Honorable Marilyn Ezzy Ashcraft, Mayor, City of Alameda, 2263 Santa Clara Avenue, Alameda, CA 94501. | Public Works Department, 950 West Mall Square, Suite 110, Alameda, CA 94501. | Nov. 20, 2024 | 060002
Riverside (FEMA Docket No.: B-2474). | City of Perris (24-09-0210P). | The Honorable Michael Vargas, Mayor, City of Perris, 101 North D Street, Perris, CA 92570. | Engineering Department, 24 South D Street, Suite 100, Perris, CA 92570. | Dec. 9, 2024 | 060258
Riverside (FEMA Docket No.: B-2474). | Unincorporated areas of Riverside County (24-09-0210P). | Chuck Washington, Chair, Riverside County Board of Supervisors, 4080 Lemon Street, 5th Floor, Riverside, CA 92501. | Riverside County, Flood Control and Water Conservation District, 1995 Market Street, Riverside, CA 92501. | Dec. 9, 2024 | 060245
Connecticut: Fairfield (FEMA Docket No.: B-2476). | City of Danbury (23-01-0686P). | The Honorable Roberto Alves, Mayor, City of Danbury, 155 Deer Hill Avenue, Danbury, CT 06810. | City Hall, 155 Deer Hill Avenue, Danbury, CT 06810. | Nov. 20, 2024 | 090004
Florida:
St. Johns (FEMA Docket No.: B-2476). | Unincorporated areas of St. Johns County (24-04-0172P). | Joy Andrews, St. Johns County Administrator, 500 San Sebastian View, St. Augustine, FL 32084. | St. Johns County Permit Center, 4040 Lewis Speedway, St. Augustine, FL 32084. | Dec. 2, 2024 | 125147
Orange (FEMA Docket No.: B-2476). | City of Orlando (24-04-1166P). | The Honorable Buddy Dyer, Mayor, City of Orlando, 400 South Orange Avenue, Orlando, FL 32801. | Permitting Services, 400 South Orange Avenue, 1st Floor, Orlando, FL 32801. | Dec. 3, 2024 | 120186
Walton (FEMA Docket No.: B-2476). | Unincorporated areas of Walton County (24-04-1098P). | Stan Sunday, Walton County Administrator, 76 North 6th Street, DeFuniak Springs, FL 32433. | Walton County Courthouse, 571 U.S. Highway 90 East, DeFuniak Springs, FL 32433. | Nov. 21, 2024 | 120317
Idaho: Lemhi (FEMA Docket No.: B-2474). | City of Salmon (23-10-0431P). | The Honorable Todd Nelson, Mayor, City of Salmon, 200 Main Street, Salmon, ID 83467. | City Hall, 200 Main Street, Salmon, ID 83467. | Dec. 13, 2024 | 160093
Indiana:
Boone (FEMA Docket No.: B-2474). | Town of Zionsville (22-05-2053P). | The Honorable John Stehr, Mayor, Town of Zionville, 1100 West Oak Street, Zionsville, IN 46077. | Planning Department, 1100 West Oak Street, Zionsville, IN 46077. | Nov. 27, 2024 | 180016
Hamilton (FEMA Docket No.: B-2474). | City of Carmel (22-05-2053P). | The Honorable Sue Finkam, Mayor, City of Carmel, 1 Civic Square, Carmel, IN 46032. | Department of Community Services, 1 Civic Square, Carmel, IN 46032. | Nov. 27, 2024 | 180081
Hamilton (FEMA Docket No.: B-2474). | City of Westfield (22-05-2053P). | The Honorable Scott Willis, Mayor, City of Westfield, 2728 East 171st Street, Westfield, IN 46074. | City Hall, 130 Penn Street, Westfield, IN 46074. | Nov. 27, 2024 | 180083
Hamilton (FEMA Docket No.: B-2474). | Unincorporated areas of Hamilton County (22-05-2053P). | Mark Heirbrandt, President, Hamilton County Board of Commissioners, 1 Hamilton County Square, Suite 157, Noblesville, IN 46060. | Hamilton County, Planning Commission, 1 Hamilton County Square, Noblesville, IN 46060. | Nov. 27, 2024 | 180080
Kansas: Johnson (FEMA Docket No.: B-2476). | City of Olathe (23-07-0892P). | The Honorable John Bacon, Mayor, City of Olathe, 100 East Santa Fe Street, Olathe, KS 66061. | Planning Office, 100 East Santa Fe Street, Olathe, KS 66061. | Nov. 27, 2024 | 200173
Minnesota: Le Sueur (FEMA Docket No.: B-2476). | Unincorporated areas of Le Sueur County (24-05-0739P). | Steven J. Rohlfing, Chair, Le Sueur County Board of Commissioners, 28020 Maple Lane, Madison Lake, MN 56063. | Le Sueur County Environmental Services Department, 515 South Maple Avenue, Le Center, MN 56057. | Nov. 29, 2024 | 270246
Missouri: St. Louis (FEMA Docket No.: B-2476). | City of University City (24-07-0245P). | The Honorable Terry Crow, Mayor, City of University City, 6801 Delmar Boulevard, University City, MO 63130. | City Hall, 6801 Delmar Boulevard, University City, MO 63130. | Nov. 29, 2024 | 290390
Nevada:
Washoe (FEMA Docket No.: B-2474). | City of Reno (24-09-0149P). | The Honorable Hillary Schieve, Mayor, City of Reno, P.O. Box 1900, Reno, NV 89505. | City Hall, 1 East 1st Street, Reno, NV 89501. | Dec. 3, 2024 | 320020
Washoe (FEMA Docket No.: B-2474). | Unincorporated areas of Washoe County (24-09-0149P). | Alexis Hill, Chair, Washoe County, Board of Commissioners, 1001 East 9th Street Building A, Reno, NV 89512. | Washoe County Administration Building, Department of Public Works, 1001 East 9th Street, Reno, NV 89512. | Dec. 3, 2024 | 320019
Oregon:
Washington (FEMA Docket No.: B-2476). | City of Beaverton (24-10-0181P). | The Honorable Lacey Beaty, Mayor, City of Beaverton, 12725 Southwest Millikan Way, Beaverton, OR 97005. | Community Development Department, 12725 Southwest Millikan Way, Beaverton, OR 97005. | Nov. 22, 2024 | 410240
Washington (FEMA Docket No.: B-2476). | Unincorporated areas of Washington County (24-10-0181P). | Kathryn Harrington, Commissioner, Washington County Board of Commissioners, 155 North 1st Avenue, Hillsboro, OR 97124. | Washington County Public Services Building, 155 North 1st Avenue, Suite 350, Hillsboro, OR 97124. | Nov. 22, 2024 | 410238
Washington: King (FEMA Docket No.: B-2476). | City of Seattle (22-10-0801P). | The Honorable Bruce Harrell, Mayor, City of Seattle, P.O. Box 94749, Seattle, WA 98124. | Department of Construction and Inspections, 700 5th Avenue, Suite 2000, Seattle, WA 98104. | Nov. 25, 2024 | 530089

[FR Doc. 2025-01025 Filed 1-15-25; 8:45 am]

BILLING CODE 9110-12-P